DEPARTMENT OF ENERGY

Request for Information—Foundation for Energy Security and Innovation (FESI); Correction

AGENCY: Office of Technology Transitions, Department of Energy.

ACTION: Request for information (RFI); correction.

SUMMARY: On February 15, 2023, the Department of Energy (DOE) published in the Federal Register a RFI seeking input on how DOE stakeholders may engage with the Foundation for Energy Security and Innovation (FESI). This document makes a correction to that notice.

FOR FURTHER INFORMATION CONTACT: Charlie Kong, Executive Assistant (contractor), U.S. Department of Energy, 1000 Independence Avenue SW, 20585; Phone: (202) 586-2000; email: OTT@hq.doe.gov.

SUPPLEMENTARY INFORMATION:

Correction

In the Federal Register of Wednesday, February 15, 2023, in FR Doc. 2023-03199, on page 9877, please make the following correction:

Under the heading, FOR FURTHER INFORMATION CONTACT, first sentence, the contact information has been changed. The original contact was Mary Yamada, (240) 888-4568, Mary.Yamada@hq.doe.gov. The new contact is Mary Yamada, (202) 586-2000, FESI.RFI@hq.doe.gov.

Reason for Correction: Correcting the contact number and email address.

Signed in Washington, DC, on March 7, 2023
Treena V. Garrett,
Federal Register Liaison Officer, U.S. Department of Energy.

[FR Doc. 2023-04951 Filed 3-9-23; 8:45 am]

BILLING CODE 6450-01-P